DEPARTMENT OF TRANSPORTATION

Federal Motor Carrier Safety Administration

[Docket No. FMCSA-2010-0167]

Electronic Logging Device Technical Specification Public Meeting

AGENCY: Federal Motor Carrier Safety Administration (FMCSA), DOT.

ACTION: Notice of public meeting.

SUMMARY: FMCSA announces a public meeting to discuss the technical specifications in Appendix A to Subpart B of part 395, Functional Specifications for All Electronic Logging Devices (ELDs), as published in the “Electronic Logging Devices and Hours of Service Supporting Documents” final rule (ELD Rule). This meeting will be a forum for discussion of the minimum requirements for ELDs and is being held to help manufacturers produce ELDs that will comply with the ELD Rule.

DATES: The public meeting will take place on Friday, September 6, 2019, from 9:30 a.m. to 1:00 p.m., Eastern time. A copy of the agenda will be available in advance of the meeting at https://www.eventbrite.com/e/electronic-logging-device-technical-specification-public-meeting-tickets-65180373251.

ADDRESSES: The meeting will be held at the U.S. DOT Headquarters Building, 1200 New Jersey Avenue SE, Washington, DC 20590. Those interested in attending this public meeting must register at: https://www.eventbrite.com/e/electronic-logging-device-technical-specification-public-meeting-tickets-65180373251 by September 1, 2019. Attendees should arrive at the U.S. DOT Headquarters Building by 8:30 a.m. to allow sufficient time to clear security. FMCSA requests that questions be submitted in advance to ELD@dot.gov.

FOR FURTHER INFORMATION CONTACT: Ms. Donnice Wagoner, Transportation Specialist, Enforcement Division, FMCSA. Ms. Wagoner may be reached at 202-366-3096 and by email at eld@dot.gov. Services for Individuals with Disabilities: For information on facilities or services for individuals with disabilities or to request special assistance at the meeting, contact Ms. Donnice Wagoner at 202-366-3096 or by email at Donnice.wagoner@dot.gov by September 1, 2019.

SUPPLEMENTARY INFORMATION:

Background

On December 16, 2015, FMCSA published in the Federal Register a final rule concerning ELDs (80 FR 78292-78416, Docket No. FMCSA-2010-0167).¹ The final rule included detailed performance and design requirements for ELDs to ensure the devices produce accurate, tamper-resistant records with a uniform file format and consistent displays.

¹ You may view the docket and supporting documentation at https://www.regulations.gov/docket?D=FMCSA-2010-0167.

The technical specifications from the ELD Rule are codified in Appendix A to Subpart B of part 395 of Title 49 of the Code of Federal Regulations. ELD manufacturers are required to self-certify that their devices comply with the ELD Rule and register the devices with FMCSA. Motor carriers subject to the ELD Rule were required to operate registered ELDs by the compliance date of December 18, 2017. However, motor carriers that operated with automatic onboard recording devices (AOBRDs) prior to December 18, 2017, and that are subject to the ELD Rule, have until December 16, 2019, to transition from AOBRDs to ELDs. A list of self-certified and registered ELDs can be found at https://eld.fmcsa.dot.gov/list.

Meeting Information

This meeting is intended for representatives of ELD vendors to present questions and discuss issues related to the transition from AOBRDs to ELDs, to discuss the data transfer process and related technical questions, and present other issues unique to the ELD vendor community. The meeting agenda is available on the registration site (see ADDRESSES above for instructions on registration).

Issued on August 21, 2019.
Raymond P. Martinez.
Administrator.

[FR Doc. 2019-18417 Filed 8-26-19; 8:45 am]

BILLING CODE 4910-EX-P